DEPARTMENT OF EDUCATION

Notice of Proposed Information Collection Requests

AGENCY: Department of Education.

SUMMARY: The Director, Information Collection Clearance Division, Regulatory Information Management Services, Office of Management, invites comments on the proposed information collection requests as required by the Paperwork Reduction Act of 1995.

DATES: Interested persons are invited to submit comments on or before May 26, 2009.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Director, Regulatory Information Management Services, Office of Management, publishes that notice containing proposed information collection requests prior to submission of these requests to OMB. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: March 18, 2009.
Angela C. Arrington,
Director, Information Collections Clearance Division, Regulatory Information Management Services, Office of Management.

Office of Planning, Evaluation and Policy Development

Type of Review: New.

Title: Evaluation of State and Local Implementation of Title III Standards, Assessments, and Accountability Systems.

Frequency: One time.

Affected Public: State, Local, or Tribal Gov't, SEAs or LEAs.

Reporting and Recordkeeping Hour Burden:

Responses: 1,940.

Burden Hours: 1,600.

Abstract: This data collection will serve to update State-level information about Title III implementation and will also provide an important opportunity to go beyond the mechanics of implementation at the State level to understand: Whether and how States and districts are making the necessary connections between English language proficiency (ELP) and academic learning; how the law's standards, assessment, and accountability mechanisms are being translated at the local level into instructional decisions and improvement strategies for limited English proficient (LEP) students; whether Title III implementation takes into account the many layers of diversity in the LEP population; and how LEP students are faring in both ELP and subject matter learning. The mixed-methods data collection and analyses will enable the study to answer a series of key evaluation questions and to deepen understanding of the extent to which Title III is achieving its underlying goals. The study has four interrelated objectives: (1) To describe the progress in implementation of Title III provisions, and variation in implementation across States; (2) To examine how localities are implementing their programs for LEP students and how these relate to State policies and contexts; (3) To determine how LEP students are faring in the development of their ELP and mastery of academic content; and (4) To maintain a focus, in all project data collection and analysis activities, on the diversity among LEP students—for example, in their concentrations, languages, ages, length of residence in the U.S.—and the educational implications of this diversity. The study will produce several policy-relevant reports and presentations including: In-person briefings for ED staff each year of the contract (three briefings total); a user-friendly policy brief and fact sheet in both Years 2 and 3 of the study, targeting policymakers, educators, media, and the public; dissemination of the fact sheet and non technical executive summary for each report completed to the study participants; dissemination of the reports, non technical executive summaries, policy briefs, and fact sheets to a number of audiences through organizations that focus on the instructional needs of LEP students; and submission of proposals for several staff members to conduct presentations at two professional and/or practitioner conferences during Years 2 and 3 of the study. The proposed study will include: A thorough review of standards and assessments; a complete set of interviews of State Title III and assessment directors; a nationally representative survey of districts receiving Title III funds; in depth case studies in five States, including two districts within each State; an analysis of longitudinal student achievement data; and an analysis of trends in State achievement. Respondents will include 51 State Title III directors, 1,300 District Title III administrators, 96 other district administrators, 192 Elementary and Secondary school principals and resource staff, 192 Elementary and Secondary teachers, and 96 parent liaisons.

Requests for copies of the proposed information collection request may be accessed from http://edicsweb.ed.gov, by selecting the “Browse Pending Collections” link and by clicking on link number 3992. When you access the information collection, click on “Download Attachments” to view. Written requests for information should be addressed to U.S. Department of Education, 400 Maryland Avenue, SW., LBJ, Washington, DC 20202-4537.

Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-6453 Filed 3-23-09; 8:45 am]

BILLING CODE 4000-01-P